DEPARTMENT OF DEFENSE

Department of the Army, Corps of Engineers

Intent To Prepare a Draft Environmental Impact Statement/Environmental Impact Report for a Permit Application for a Proposed Marine Terminal Expansion at Piers D, E and F in the Middle Harbor District of the Port of Long Beach, Los Angeles County, CA

AGENCY: U.S. Army Corps of Engineers, Los Angeles District, DoD.

ACTION: Revised Notice of Intent (NOI).

SUMMARY: The U.S. Army Corps of Engineers (Corps) is considering an application for Section 404 and Section 10 permits to conduct dredge and fill activities to redevelop and consolidate two existing container terminals for the construction of a 342-acre marine terminal including redevelopment of 294 acres of existing land and the placement of dredged material in open water to create 48 acres of new land. The primary reason for the revised notice of intent is because the proposed terminal expansion project has been modified to utilize additional existing land to reduce the amount of fill in open water by approximately 20 acres.

The primary Federal concern is the dredging and discharging of materials within waters of the Unites States and potential significant impacts to the human environment. Therefore, in accordance with the National Environmental Policy Act (NEPA), the Corps is requiring the preparation of an Environmental Impact Statement (EIS) prior to consideration of any permit action. The Corps may ultimately make a determination to permit or deny the above project, or permit or deny modified versions of the above project.

Pursuant to the California Environmental Quality Act (CEQA), the Port of Long Beach will serve as Lead Agency for the preparation of an Environmental Impact Report (EIR) for its consideration of development approvals within its jurisdiction. The Corps and the Port of Long Beach have agreed to jointly prepare a Draft EIS/EIR in order to optimize efficiency and avoid duplication. The Draft EIS/EIR is intended to be sufficient in scope to address both the Federal and the State and local requirements and environmental issues concerning the proposed activities and permit approvals.

FOR FURTHER INFORMATION CONTACT: Comments and questions regarding scoping of the Draft EIS/EIR may be addressed to: U.S. Army Corps of Engineers, Los Angeles District, Regulatory Branch, ATTN: File Number 2004-01053-AOA, P.O. Box 532711, Los Angeles, California 90053-2325. Comments or questions can also be sent to Patricia Shoemaker, Port of Long Beach, P.O. Box 570, Long Beach, CA 90801-0570. Phone messages or questions should be directed to Dr. Aaron O. Allen at 805-585-2148.

SUPPLEMENTARY INFORMATION: 1. Project Site: The proposed project is located in the southern portion of the Port of Long Beach, California. The proposed dredge and fill activities would take place at Piers D, E and F and would involve redeveloping portions of Pier D and reconfiguring existing wharves and berths at Piers E and F to create a single 342-acre marine terminal to accommodate increasing cargo volumes being produced by the new generation of larger container vessels.

2. Proposed Action: The project applicant, the Port of Long Beach, proposes to permanently impact approximately 48 acres of open-water habitat for dredge and fill activities and to rehabilitate 294 acres of existing terminal area at Piers D, E and F for the construction of a new 342-acre container terminal in the Port of Long Beach. The proposed project would reconfigure existing wharves and berths at Piers D, E and F into one 4,250-foot-long wharf with four deep-water berths, a container terminal yard that includes 48 acres of new land and 294 acres of rehabilitated land and an intermodal rail yard. The proposed project would include dredge and fill activities, new wharf construction and terminal expansion on adjacent areas that consist of existing and newly created land. The specific components of the proposed project would include: dredging to deepen Slip Number Three to −55 Mean Lower Low Water (MLLW) and widen Slip 3 by 110 feet to accommodate four deep-water berths; filling the 22-acre Slip One and approximately 33 acres of the East Basin between Pier E and F to create additional terminal area; fill existing submerged land with suitable dredge and excavated material from Slip 3 and Berth F201; wharf and container yard redevelopment; new wharf construction; and expansion of terminal backland capacity. The proposed project would generate approximately 680,000 cubic yards of dredged material and excavated material generated by the project would be approximately 1,290,000 cubic yards. Approximately 6,730,000 cubic yards of imported fill from sources both inside and outside the Harbor District would be required to complete all the proposed discharges of dredged and fill material in waters of the United States to create approximately 48 acres of new land. The proposed construction and rehabilitation activities would be completed over a 10-year period. All of the above construction activities would include the demolition of existing terminal facilities as well as existing buildings and infrastructure in both open water and upland areas.

3. Issues: There are several potential environmental issues that will be addressed in the Draft EIS/EIR. Additional issues may be identified during the scoping process. Issues initially identified as potentially significant include:

1. Geological issues including dredging and stabilization of fill areas.

2. Potential impacts to marine biological resources.

3. Impacts to air quality.

4. Traffic, including navigation issues, and transportation related impacts.

5. Potential noise impacts.

6. Impacts to public utilities and services.

7. Impact to aesthetic resources.

8. Potential impacts on public health and safety.

9. Cumulative impacts.

4. Alternatives: Several alternatives are being considered for the proposed marine terminal. These alternatives will be further formulated and developed during the scoping process and an appropriate range of alternatives, including the no Federal action alternative, will be considered in the Draft EIS/EIR.

5. Scoping Process: A previous Notice of Intent for the original project design was published in the Federal Register on August 31, 2004. A public meeting will be held to receive public comment and assess public concerns regarding the appropriate scope and preparation of the Draft EIS/EIR. Participation in the public meeting by Federal, State and local agencies and other interested organizations and persons is encouraged.

The Corps of Engineers will also be consulting with the U.S. Fish and Wildlife Service under the Endangered Species Act and Fish and Wildlife Coordination Act, and with the National Marine Fisheries Service under the Magnuson-Stevens Act. Additionally, the EIS/EIR will assess the consistency of the proposed Action with the Coastal Zone Management Act and potential water quality impacts pursuant to Section 401 of the Clean Water Act. The public scoping meeting for the Draft EIS/EIR will be held at the City Hall Council Chambers in Long Beach on January, 30, 2006, and will start at 7 p.m. Written comments will be accepted until February 13, 2006.

6. Availability of the Draft EIS: The Draft EIS/EIR is expected to be published and circulated in July of 2006, and a Public Hearing will be held after its publication.

Dated: December 14, 2005.
Alex C. Dornstauder,
Colonel, U.S. Army, District Engineer.

[FR Doc. E5-7870 Filed 12-23-05; 8:45 am]

BILLING CODE 3710-92-P